NATIONAL SCIENCE FOUNDATION

Conservation Act of 1978; Notice of Permit Modification

AGENCY: National Science Foundation.

SUMMARY: The Foundation modified a permit to conduct activities regulated under the Antarctic Conservation Act of 1978 (Public Law 95-541; Code of Federal Regulations title 45, part 670).

FOR FURTHER INFORMATION CONTACT: Nadene G. Kennedy, Permit Officer, Office of Polar Programs, Rm. 755, National Science Foundation, 4201 Wilson Boulevard, Arlington, VA 22230.

DESCRIPTION OF PERMIT AND MODIFICATION: On September 15, 1999, the National Science Foundation issued a permit (ACA #2000-001) to Dr. Steven D. Enslie after posting a notice in the August 17, 1999 Federal Register. Public comments were not received. A request to modify the permit was posted in the Federal Register on April 30, 2001. No public comments were received. The modification, issued by the Foundation on September 19, 2001, allows the permit holder to enter additional Antarctic Specially Protected Areas for the purpose of collecting conducting surveys and excavating small 5-10cm soil samples from abandoned penguin rookeries.

Location:

ASPA 102—Rookery Islands, Holme Bay

ASPA 103—Ardery and Odbert Islands

ASPA 109—Moe Island, South Orkneys

ASPA 110—Lynch Island, South Orkneys

ASPA 111—Southern Powell Island and adjacent islands, Orkney Islands

ASPA 114—North Coronation Island

ASPA 127—Haswell Island

ASPA 135—Bailey Peninsula, Budd Coast

ASPA 136—Clark Peninsula, Budd Coast

Nadene G. Kennedy,
Permit Officer.

[FR Doc. 01-25615 Filed 10-11-01; 8:45 am]

BILLING CODE 7555-01-M